DEPARTMENT OF DEFENSE

Department of the Army

[Docket ID USA-2023-HQ-0003]

Submission for OMB Review; Comment Request

AGENCY: Army Corps of Engineers, Department of Defense (DoD).

ACTION: 30-Day information collection notice.

SUMMARY: The DoD has submitted to the Office of Management and Budget (OMB) for clearance the following proposal for collection of information under the provisions of the Paperwork Reduction Act.

DATES: Consideration will be given to all comments received by April 24, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Vessel Operation Reporting; ENG Forms 3926, 3925, 3925B, 3925C, and 3925P; OMB Control Number 0710-0006.

Type of Request: Revision.

ENG Form 3926

Number of Respondents: 100.

Responses per Respondent: 12.

Annual Responses: 1,200.

Average Burden per Response: 30 minutes.

Annual Burden Hours: 600.

ENG Form 3925/3925B/3925C/3925P

Number of Respondents: 450.

Responses per Respondent: 12.

Annual Responses: 5,400.

Average Burden per Response: 90 minutes.

Annual Burden Hours: 8,100.

Total

Number of Respondents: 550.

Annual Responses: 6,600.

Annual Burden Hours: 8,700.

Needs and Uses: The information collection requirement is necessary to determine usage on the nation's waterway network. The authority for the U.S. Army Corps of Engineers (USACE) to collect data on vessel operations and cargo movements is given by Section 11 of 42 Stat. 1043, the Rivers and Harbors Appropriation Act of 1922, as amended by Public Law 99-662 and codified in 33 U.S.C. 555. Using both the ENG 3925, “Vessel Operation Report” forms and ENG Form 3926, “Record of Arrivals and Departures of Vessels,” the Waterborne Commerce Statistics Center (WCSC) is able to paint a complete picture of vessel movements and cargo carried on U.S. waterways. Each set of data produced from the forms allows WCSC to ensure accuracy and completeness. The data are used to annually publish Waterborne Commerce of the United States (WCUS) Ports and Waterways which presents detailed data on the movements of vessels and commodities at the ports and harbors and on the waterways and canals of the United States and its territories. It also provides statistics on the foreign and domestic waterborne commerce moved through the U.S. waters. Congress receives this annual report, and the data contained therein are used in cost-benefit analyses for new projects, rehabilitation projects, and operations and maintenance of existing projects. It is also used by other Federal agencies involved in transportation and security. Researchers and private organizations also use the data regularly to help decide on which locales are best models for their studies/needs.

Affected Public: Business or other for-profit; individuals or households.

Frequency: Monthly.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: March 21, 2023.
Aaron T. Siegel,
Alternate OSD Federal Register Liaison Officer, Department of Defense.

[FR Doc. 2023-06166 Filed 3-23-23; 8:45 am]

BILLING CODE 5001-06-P